DEPARTMENT OF AGRICULTURE

Forest Service

Title II Resource Advisory Committee Meeting Advisory

AGENCY: Colville National Forest, USDA, Forest Service.

ACTION: Notice of meeting.

SUMMARY: Colville National Forest's Resource Advisory Committee has scheduled a meeting to occur in Colville, Washington. The purpose of the meeting is to provide recommendations for Title II projects to be funded by the Secure Rural Schools and Community Self-Determination Act, more commonly known as Payments to Counties, in Fiscal Year 2008.

DATES: The meeting will be held on Wednesday, September 26, 2007, from 9 a.m. until 4 p.m. A public input session will be provided. Comments will be limited to three minutes per person. The Designated Federal Official may choose to cancel this meeting if appropriate.

ADDRESSES: The meeting will be held at the Colville Campus of Community Colleges of Spokane—Colville Center, 985 South Elm Street, Colville, WA 99114.

FOR FURTHER INFORMATION CONTACT: Rick Brazell, Forest Supervisory, the Designated Federal Official for the Colville National Forest Resource Advisory Committee. Colville National Forest, 765 South Main Street, Colville, WA 99114, 509-684-7000

SUPPLEMENTARY INFORMATION: This meeting is open to the public. Project discussion will be limited to Resource Advisory Committee members and Forest Service personnel. However, a public input session will be provided on the agenda, and individuals will have the opportunity to address the committee at that time.

Dated: September 6, 2007.
Donald N. Gonzalez,
Acting Forest Supervisor.

[FR Doc. 07-4463 Filed 9-11-07; 8:45 am]

BILLING CODE 3410-11-M